DEPARTMENT OF JUSTICE

Antitrust Division

Notice Pursuant to the National Cooperative Research and Production Act of 1993—Cooperative Research Group on Automotive Consortium for Embedded Security ™

Notice is hereby given that, on January 27, 2016, pursuant to Section 6(a) of the National Cooperative Research and Production Act of 1993, 15 U.S.C. 4301 et seq. (“the Act”), Southwest Research Institute—Cooperative Research Group on Automotive Consortium for Embedded Security ™ (“ACES”) has filed written notifications simultaneously with the Attorney General and the Federal Trade Commission disclosing changes in its membership. The notifications were filed for the purpose of extending the Act's provisions limiting the recovery of antitrust plaintiffs to actual damages under specified circumstances. Specifically, Robert Bosch LLC, Farmington Hills, MI, has withdrawn as a party to this venture.

No other changes have been made in either the membership or planned activity of the group research project. Membership in this group research project remains open, and ACES intends to file additional written notifications disclosing all changes in membership.

On March 20, 2015, ACES filed its original notification pursuant to Section 6(a) of the Act. The Department of Justice published a notice in the Federal Register pursuant to Section 6(b) of the Act on April 30, 2015 (80 FR 75469).

The last notification was filed with the Department on November 2, 2015. A notice was published in the Federal Register pursuant to Section 6(b) of the Act on December 2, 2015 (80 FR 24279).

Patricia A. Brink,
Director of Civil Enforcement, Antitrust Division.

[FR Doc. 2016-05303 Filed 3-8-16; 8:45 am]

BILLING CODE P